FEDERAL COMMUNICATIONS COMMISSION

47 CFR Part 54

[WC Docket No. 02-6; FCC 03-288]

Rural Health Care Support Mechanism

AGENCY: Federal Communications Commission.

ACTION: Final rule, correction.

SUMMARY: This document corrects errors in the dates section and the supplementary information section of a Federal Register document regarding the Commission modification of its rules to improve the effectiveness of the rural health care support mechanism, which provides discounts to rural health care providers to access modern telecommunications for medical and health maintenance purposes. The summary was published in the Federal Register on December 24, 2003.

DATES: Effective January 22, 2004.

FOR FURTHER INFORMATION CONTACT: Shannon Lipp, Attorney, (202) 418-7400 or Regina Brown, Attorney, (202) 418-7400, Wireline Competition Bureau, Telecommunications Access Policy Division.

SUPPLEMENTARY INFORMATION: This summary contains corrections to the dates section and the supplementary information section of a Federal Register summary, 68 FR 74492 (December 24, 2003). The full text of the Commission's Report and Order and Order on Reconsideration in WC Docket No. 02-6, FCC 03-288 released on December 24, 2003 is available for public inspection during regular business hours in the FCC Reference Center, Room CY-A257, 445 Twelfth Street, SW., Washington, DC 20554.

In rule FR Doc. 03-31683 published December 24, 2003 (68 FR 74492) make the following corrections.

1. On page 74492, in the third column, in the DATES section, remove “February 23, 2004” and add “January 23, 2004” in its place. Also in the DATES section, remove “§ 54.609(A)(3)(ii)” and add “§ 54.609(d)(2)” in its place.

2. On page 74502, in the first column, in paragraph 69, fourth line, remove “§ 54.609(A)(3)(ii)” and add “§ 54.609(d)(2)” in its place.

Federal Communications Commission.
Marlene H. Dortch,
Secretary.

[FR Doc. 04-1247 Filed 1-21-04; 8:45 am]

BILLING CODE 6712-01-P